DEPARTMENT OF ENERGY

Federal Energy Regulatory Commission

[Docket Nos. RP01-74-001 and RP97-406-026]

Dominion Transmission, Inc; Notice of Proposed Changes in FERC Gas Tariff

December 7, 2000.

Take notice that on December 1, 2000, Dominion Transmission Inc. (DTI) filed as part of its FERC Gas Tariff, Third Revised Volume No. 1, the following revised tariff sheets, with an effective date of January 1, 2001:

Substitute Third Revised Sheet No. 31

Substitute Third Revised Sheet No. 32

Third Revised Sheet No. 33

Substitute Third Revised Sheet No. 34

Substitute Third Revised Sheet No. 35

DTI states that the purpose of the filing is to apply the rate component changes that DTI originally proposed in this proceeding on November 1, 2000, to the currently effective rates and tariff sheets that the Commission approved in its order issued October 17, 2000, in Docket No. RP00-602-000. The original November 1, 2000, filing in this docket was made under the assumption that the TCRA rates that DTI had proposed on September 29, 2000, in Docket No. RP000-632, would be allowed to become effective on November 1, 2000. That latter filing, however, was suspended by the Commission.

DTI also states that it is filing to withdraw Second Revised Sheet No. 33 that was paginated incorrectly in the November 1, 2000, filing and to replace it with Third Revised Sheet No. 33.

DTI states that copies of its letter of transmittal and enclosures have been served upon DTI's customers and interested state commissions.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties of the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-31839 Filed 12-13-00; 8:45 am]

BILLING CODE 6717-01-M